DEPARTMENT OF JUSTICE

Antitrust Division

Notice Pursuant to The National Cooperative Research and Production Act of 1993—Vehicle to Infrastructure Consortium

Notice is hereby given that, on July 13, 2020, pursuant to Section 6(a) of the National Cooperative Research and Production Act of 1993, 15 U.S.C. 4301 et seq. (“the Act”), Vehicle to Infrastructure Consortium (“V2I Consortium”) has filed written notifications simultaneously with the Attorney General and the Federal Trade Commission disclosing changes in its membership. The notifications were filed for the purpose of extending the Act's provisions limiting the recovery of antitrust plaintiffs to actual damages under specified circumstances. Specifically, Mazda Motor of America, Inc., Irvine CA; Fuji Heavy Industries USA, Inc., Subaru, Cherry Hill NJ; and Volvo Group North America, Costa Mesa CA have withdrawn as parties to this venture.

No other changes have been made in either the membership or planned activity of the group research project. Membership in this group research project remains open, and V21 intends to file additional written notifications disclosing all changes in membership.

On December 3, 2014, V21 filed its original notification pursuant to Section 6(a) of the Act. The Department of Justice published a notice in the Federal Register pursuant to Section 6(b) of the Act on December 31, 2014 (79 FR 78908).

The last notification was filed with the Department on June 28, 2017. A notice was published in the Federal Register pursuant to Section 6(b) of the Act on July 31, 2017 (82 FR 35546).

Suzanne Morris,
Chief, Premerger and Division Statistics, Antitrust Division.

[FR Doc. 2020-16647 Filed 7-30-20; 8:45 am]

BILLING CODE 4410-11-P